DEPARTMENT OF EDUCATION

[CFDA 84.133E-1 and 84.133E-3]

Proposed Priorities: Disability and Rehabilitation Research Projects and Centers Program

AGENCY: Office of Special Education and Rehabilitative Services, Department of Education.

ACTION: Notice.

SUMMARY: The Assistant Secretary for Special Education and Rehabilitative Services proposes two priorities for the Disability and Rehabilitation Research Projects and Centers Program administered by NIDRR. Specifically, this notice proposes two priorities for RERCs: Low Vision and Blindness (Proposed Priority 1) and Wireless Technologies (Proposed Priority 2). The Assistant Secretary may use these priorities for competitions in fiscal year (FY) 2011 and later years. We take this action to focus research attention on areas of national need. We intend to use these priorities to improve rehabilitation services and outcomes for individuals with disabilities.

DATES: We must receive your comments on or before April 28, 2011.

ADDRESSES: Address all comments about this notice to Marlene Spencer, U.S. Department of Education, 400 Maryland Avenue, SW., room 5133, Potomac Center Plaza, Washington, DC 20202-2700.

If you prefer to send your comments by e-mail, use the following address: Marlene.Spencer@ed.gov. You must include the term “Proposed Priorities for RERCs” and the priority title in the subject line of your electronic message.

FOR FURTHER INFORMATION CONTACT: Marlene Spencer. Telephone: (202) 245-7532 or by e-mail: Marlene.Spencer@ed.gov.

If you use a telecommunications device for the deaf (TDD), call the Federal Relay Service (FRS), toll free, at 1-800-877-8339.

SUPPLEMENTARY INFORMATION: This notice of proposed priorities is in concert with NIDRR's currently approved Long-Range Plan (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes two priorities that NIDRR intends to use for RERC competitions in FY 2011 and possibly later years. However, nothing precludes NIDRR from publishing additional priorities, if needed. Furthermore, NIDRR is under no obligation to make awards for these priorities. The decision to make an award will be based on the quality of applications received and available funding.

Invitation to Comment: We invite you to submit comments regarding this notice. To ensure that your comments have maximum effect in developing the notice of final priorities, we urge you to identify clearly the specific proposed priority that each comment addresses.

We invite you to assist us in complying with the specific requirements of Executive Order 12866 and its overall requirement of reducing regulatory burden that might result from these proposed priorities. Please let us know of any further ways we could reduce potential costs or increase potential benefits while preserving the effective and efficient administration of the program.

During and after the comment period, you may inspect all public comments about this notice in room 5140, 550 12th Street, SW., Potomac Center Plaza, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities; to develop methods, procedures, and rehabilitation technology that maximize the full inclusion and integration into society, employment, independent living, family support, and economic and social self-sufficiency of individuals with disabilities, especially individuals with the most severe disabilities; and to improve the effectiveness of services authorized under the Rehabilitation Act of 1973, as amended (Rehabilitation Act).

Rehabilitation Engineering Research Centers Program (RERCs)

The purpose of the RERC program is to improve the effectiveness of services authorized under the Rehabilitation Act by conducting advanced engineering research on and development of innovative technologies that are designed to solve particular rehabilitation problems, or to remove environmental barriers. RERCs also demonstrate and evaluate such technologies, facilitate service delivery system changes, stimulate the production and distribution of new technologies and equipment in the private sector, and provide training opportunities.

General Requirements of RERCs

RERCs carry out research or demonstration activities in support of the Rehabilitation Act by—

• Developing and disseminating innovative methods of applying advanced technology, scientific achievement, and psychological and social knowledge to solve rehabilitation problems and to remove environmental barriers through studying and evaluating new or emerging technologies, products, or environments and their effectiveness and benefits; or

• Demonstrating and disseminating: (a) Innovative models for the delivery of cost-effective rehabilitation technology services to rural and urban areas; and (b) other scientific research to assist in meeting the employment and independent living needs of individuals with severe disabilities; and

• Facilitating service delivery systems change through: (a) The development, evaluation, and dissemination of innovative, consumer-responsive, and individual- and family-centered models for the delivery to both rural and urban areas of innovative cost-effective rehabilitation technology services; and (b) other scientific research to assist in meeting the employment and independent living needs of and addressing the barriers confronted by individuals with disabilities, including individuals with severe disabilities.

Each RERC must be operated by, or in collaboration with, one or more institutions of higher education or one or more nonprofit organizations.

Each RERC must provide training opportunities, in conjunction with institutions of higher education or nonprofit organizations, to assist individuals, including individuals with disabilities, to become rehabilitation technology researchers and practitioners.

Each RERC must emphasize the principles of universal design in its product research and development. Universal design is the design of products and environments to be usable by all people, to the greatest extent possible, without the need for adaptation or specialized design (North Carolina State University, 1997. http://www.design.ncsu.edu/cud/about_ud/udprinciplestext.htm).

Additional information on the RERC program can be found at: http://www.ed.gov/rschstat/research/pubs/index.html.

Program Authority: 29 U.S.C. 762(g) and 764(a).

Applicable Program Regulations: 34 CFR part 350.

PROPOSED PRIORITIES:

This notice contains two proposed priorities.

Proposed Priority 1—RERC on Low Vision and Blindness.

Background

Low vision and blindness affects approximately 3.4 million adults over 40 years of age in the United States (The Eye Diseases Prevalence Research Group, 2004) and according to the 2009 Annual Report from the American Printing House for the Blind, there are 59,335 legally blind children aged 0-21 in the U.S. (American Printing House for the Blind, 2009). Survey estimates of the number of individuals with low vision and blindness vary depending on the definitions used and the wording of the questions. The 2008 National Health Interview Survey Provisional Report stated that there are 25.2 million American adults aged 18 and over who report experiencing vision loss (Pleis & Lucas, 2009). As increasing numbers of premature infants survive due to advances in modern medicine and technology, the number of infants with low vision and blindness is expected to increase. In addition, the prevalence of age-related causes of low vision and blindness, such as macular degeneration, cataracts, and glaucoma, is expected to rise as the population ages.

The population of those with low vision and blindness is also changing. The elderly population of individuals with low vision and blindness is growing (The Eye Diseases Prevalence Research Group, 2004); returning veterans are experiencing low vision and blindness due to blast injuries (Thach, Johnson, Carroll, Huchun, Ainbinder, et al., 2008); doctors are reporting an increase in the number of children with low vision and blindness and additional non-ophthalmic disabling conditions (Rahi, Cumberland, & Peckham, 2010); and there is a growing prevalence of deaf-blind individuals in the U.S. (Saunders & Echt, 2007).

Persons with low vision and blindness often need assistance with performing activities of daily living. While such assistance may be provided through more traditional methods such as through the assistance of family members or service animals or through the use of white canes and braille, clinicians, researchers and rehabilitation engineers are developing a growing number of technological products and interventions that assist persons with low vision and blindness as they navigate their communities and perform tasks and activities at home and work.

NIDRR has been an active participant in supporting the technological advancements in low vision and blindness assessment, therapy, and rehabilitation for 20 years. NIDRR grantees have researched and developed technologies that improve assessment of low vision and blindness and technologies for blind orientation, navigation, and wayfinding. In addition, NIDRR grantees are researching and developing infant vision screening and rehabilitation technology, educational technology, and vocational and daily living technology for individuals with low vision and blindness.

Notwithstanding this valuable research and work, new and improved vision assessment and vision rehabilitation technologies are required to meet the needs of the changing and expanding population of individuals who experience low vision and blindness. New products and technologies that detect and mitigate low vision and blindness must be researched and developed for individuals of all ages, as rehabilitation needs may vary or change with age.

With enhancements in technology in all segments of society, there is an increasing need for individuals with low vision and blindness to manipulate and produce many types of information, such as text and graphics (Arditi, 2004; Krufka, Barner, & Aysal, 2007). Thus, further research and development are needed to ensure that individuals with low vision and blindness have access to graphical information, signage, and travel information, and appliances and displays for education, employment, and daily living (Vidal-Verdu & Hafez, 2007; Marston & Church, 2005; Technology Bill of Rights for the Blind Act of 2010, 2010; Marom, 2010). In addition, in the area of education, new methods for presenting scientific information and concepts in accessible form are needed for science, technology, engineering, and mathematics. Accordingly, NIDRR seeks to fund an RERC on low vision and blindness to research, develop, and evaluate innovative technologies that will improve the ability of individuals with low vision and blindness to function independently within their schools, communities, and workplaces.

References

The Eye Diseases Prevalence Research Group (2004). Causes and prevalence of visual impairment among adults in the United States. Archives of Ophthalmology; 122:477-485.

American Printing House for the Blind, Inc. (2009). 2009 Annual Report. Louisville, KY 40206 USA. Retrieved from http://www.aph.org/about/ar2009.html.

Pleis J.R. & Lucas J.W. (2009). Provisional Report: Summary health statistics for U.S. adults: National Health Interview Survey, 2008. National Center for Health Statistics. Vital Health Stat 10(242).

Thach A.B., Johnson A.J., Carroll R.B., Huchun A., Ainbinder D.J., Stutzman R.D., Blaydon S.M., Demartelaere S.L., Mader T.H., Slade C.S., George R.K., Ritchey J.P., Barnes S.D., & Fannin L.A. (2008). Severe eye injuries in the war in Iraq, 2003-2005. Ophthalmology; Feb; 115(2):377-382.

Rahi J.S., Cumberland P.M., Peckham C.S., & British Childhood Visual Impairment Interest Group (2010). Improving detection of blindness in childhood: the British childhood vision impairment study. Pediatrics; Oct; 126(4).

Saunders G.H. & Echt K.V. (2007). An overview of dual sensory impairment in older adults: perspectives for rehabilitation. Trends in Amplification. Dec; 11(4):243-58.

Vidal-Verdú F. & Hafez M. (2007). Graphical tactile displays for visually-impaired people. IEEE Transactions on Neural Systems and Rehabilitation Engineering. Mar; 15(1):119-30.

Marston J.R. & Church R.L. (2005). A relative access measure to identify barriers to efficient transit use by persons with visual impairments. Disability and Rehabilitation. Jul 8; 27(13):769-79.

Technology Bill of Rights for the Blind Act of 2010. 111th CONGRESS, 2d Session, H. R. 4533.

Marom L. (2010). Insulin pump access issues for visually impaired people with type 1 diabetes. Diabetes Research and Clinical Practice. Jul; 89(1).

Arditi A. (2004). Adjustable typography: an approach to enhancing low vision text accessibility. Ergonomics. Apr 15; 47(5):469-82.

Krufka S.E., Barner K.E. & Aysal T.C. (2007). Visual to tactile conversion of vector graphics. IEEE Transactions on Neural Systems and Rehabilitation Engineering. Jun; 15(2):310-21.

Proposed Priority

The Assistant Secretary for Special Education and Rehabilitative Services proposes a priority for a Rehabilitation Engineering Research Center (RERC) on Low Vision and Blindness. This RERC must research and develop technologies that will improve the assessment of low vision and blindness and promote independence for individuals with low vision and blindness of all ages, including those who are deaf-blind and those with multiple disabilities. Specifically, the RERC must improve vision assessment for the changing and expanding population of individuals who are at risk for experiencing low vision and blindness, including but not limited to, the elderly, returning military veterans, and prematurely born infants. The RERC must also research and develop technologies that will improve individuals' access to graphical information, signage, and travel information and devices and appliances that have digital displays and control panels. In addition, the RERC must research and develop technologies to promote the participation of individuals with low vision and blindness in science, technology, engineering, and mathematics education (STEM). Regarding participation in STEM, these technologies include but are not limited to accessible scientific measurement instruments, tools, and materials.

Proposed Priority 2—RERC on Wireless Technologies.

Background

Wireless technologies allow the connection of communication, information, and control devices to local, community, and nationwide networks. Wireless devices support a wide range of applications spanning voice and data communication, remote monitoring, and position finding, and offer tremendous potential for assisting individuals with disabilities to participate actively in the community.

Wireless technology can improve the quality of life and enhance inclusiveness for individuals with disabilities in the areas of employment, health care, education, and emergency response. For example, a new wireless system offers those with hearing difficulties the ability to caption events in real-time; for those who have difficulty seeing, new mobile applications can use smart-phone cameras to scan labels on grocery items or pill bottles; for those with communication difficulties, there are many communications applications available for cell phones that convey typed messages through voice output (Mobile Future, 2010). Cloud computing is a technology that uses the internet and central remote servers to maintain data and applications. These “cloud” applications can be used without installation to a personal computer, and data and personal files can be accessed at any computer with internet access. Cloud computing technologies may provide individuals with disabilities an additional option for access from any wireless device in a variety of settings to a shared pool of computing resources, software, and information.

The Federal Communications Commission (FCC) recognizes the importance of wireless technology for individuals with disabilities (FCC Broadband plan, 2010; FCC Working Paper: A Giant Leap & A Big Deal: Delivering on the Promise of Equal Access to Broadband for People with Disabilities, 2010). As part of its broadband plan, the FCC has included an accessibility and innovation forum and plans to modernize accessibility laws, rules, and subsidy programs.

NIDRR has been an active participant in directing the technological advancements in wireless technologies for ten years so that individuals across the range of abilities may enjoy the benefits of these technologies and participate more fully in society. NIDRR grantees have been active in research on technology use and usability, and the development of public policy influencing equitable access to wireless technologies. In addition, NIDRR grantees have developed new technologies and accessible technology applications in the areas of web accessibility, emergency communications, audio captioning, touch-screen and audible interfaces, and TTY Phone-Deaf 911. NIDRR grantees have also filed comments on and informed final FCC rules concerning wireless use of the Emergency Alert System (EAS), the Commercial Mobile Alert System (CMAS), and the broadband plan.

NIDRR recognizes the potential benefits that wireless technology has for individuals with disabilities and that wireless networking represents the future of computer and internet connectivity. However, as wireless technology continues to advance in technical sophistication and commercial availability at a rapid pace, issues of usability continue for individuals with disabilities. The wireless industry too often fails to design products and services for use by individuals with disabilities, is unaware of the barriers faced by individuals with disabilities, and does not fully evaluate the usability of wireless products and services for individuals with disabilities before they become mainstream products and services (Designing Inclusive Futures, 2008). Technical issues in areas such as interoperability (the ability of a system or a product to work with other systems or products), speech-to-text conversion, and hearing aid compatibility have been identified as barriers that individuals with disabilities experience as they attempt to use wireless technologies (Baker & Moon, 2008). In addition, ergonomic and interface needs of individuals with disabilities are recognized barriers to use of wireless technologies (Mueller, Jones, Broderick, & Haberman, 2005).

In addition to promoting usability of emerging and existing wireless technologies, NIDRR proposes to continue research and development efforts to develop new wireless products and technologies that directly facilitate the independence and community participation of individuals with disabilities. Accordingly, NIDRR seeks to fund an RERC on Wireless Technologies to research, develop, and evaluate innovative technologies and approaches that will improve the ability of individuals with disabilities to use wireless technologies to promote independence and community participation.

References

Mobile Future. (2010). Mobile ability: The transformational impact of wireless innovation for people with disabilities. Retrieved from http://www.mobilefuture.org/content/pages/mobile_ability.

Federal Communications Commission. (2010). The national broadband plan. Retrieved from www.broadband.gov.

Federal Communications Commission. (2010). A giant leap and a big deal: Delivering on the promise of equal access to broadband for people with disabilities. Retrieved from http://download.broadband.gov/plan/fcc-omnibus-broadband-initiative-%28obi%29-working-report-giant-leap-big-deal-delivering-promise-of-equal-access-to-broadband-for-people-with-disabilities.pdf.

Baker, P.M. & Moon, N.W. (2008). Wireless technologies and accessibility for people with disabilities: Findings from a policy research instrument.

Assist Technol. Fall; 20(3): 149-56.

Mueller, J., Jones, M., Broderick, L., & Haberman, V. (2005). Assessment of user needs in wireless technologies. Assist Technol. Spring; 17(1): 57-71.

Baker, P.M. & Moon, N.W. (2008). Access barriers to wireless technologies for people with disabilities: issues, opportunities and policy options. In: Designing Inclusive Futures. Langdon, P.; Clarkson, P. John; Robinson, P. (Eds.) 1st Edition.

Proposed Priority

The Assistant Secretary for Special Education and Rehabilitative Services proposes a priority for a Rehabilitation Engineering Research Center (RERC) on Wireless Technologies. Under this priority, the RERC must research, develop, and evaluate innovative technologies and products that facilitate the use of wireless technologies for individuals with disabilities. The RERC must research and develop wireless hardware and software that will meet the needs, promote independence, and improve the quality of life and community participation of individuals with disabilities. The RERC must also work with and provide information to relevant Federal agencies, designers, and manufacturers regarding barriers to and methods for facilitating the use of wireless technologies by individuals with disabilities.

Requirements Applicable to Both Proposed Priorities

A RERC established under either of the proposed priorities in this notice must be designed to contribute to the following outcomes:

(1) Increased technical and scientific knowledge relevant to its designated priority research area. The RERC must contribute to this outcome by conducting high-quality, rigorous research and development projects.

(2) Increased innovation in technologies, products, environments, performance guidelines, and monitoring and assessment tools applicable to its designated priority research area. The RERC must contribute to this outcome through the development and testing of these innovations.

(3) Improved research capacity in its designated priority research area. The RERC must contribute to this outcome by collaborating with the relevant industry, professional associations, institutions of higher education, health care providers, or educators, as appropriate.

(4) Improved awareness and understanding of cutting edge developments in technologies within its designated priority research area. The RERC must contribute to this outcome by identifying and communicating with NIDRR, individuals with disabilities, their representatives, disability organizations, service providers, professional journals, manufacturers, and other interested parties regarding trends and evolving product concepts related to its designated priority research area.

(5) Increased impact of research in the designated priority research area. The RERC must contribute to this outcome by providing technical assistance to relevant public and private organizations, individuals with disabilities, employers, and schools on policies, guidelines, and standards related to its designated priority research area.

(6) Increased transfer of RERC-developed technologies to the marketplace. The RERC must contribute to this outcome by developing and implementing a plan for ensuring that all technologies developed by the RERC are made available to the public. The technology transfer plan must be developed in the first year of the project period in consultation with the NIDRR-funded Disability Rehabilitation Research Project, Center on Knowledge Translation for Technology Transfer.

In addition, under each priority, the RERC must—

• Have the capability to design, build, and test prototype devices and assist in the technology transfer and knowledge translation of successful solutions to relevant production and service delivery settings;

• Evaluate the efficacy and safety of its new products, instrumentation, or assistive devices;

• Provide as part of its proposal, and then implement, a plan that describes how it will include, as appropriate, individuals with disabilities or their representatives in all phases of its activities, including research, development, training, dissemination, and evaluation;

• Provide as part of its proposal, and then implement, in consultation with the NIDRR-funded National Center for the Dissemination of Disability Research, a plan to disseminate its research results to individuals with disabilities, their representatives, disability organizations, service providers, professional journals, manufacturers, and other interested parties;

• Conduct a state-of-the-science conference on its designated priority research area in the fourth year of the project period, and publish a comprehensive report on the final outcomes of the conference in the fifth year of the project period; and

• Coordinate research projects of mutual interest with relevant NIDRR-funded projects, as identified through consultation with the NIDRR project officer.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priorities: We will announce the final priorities in a notice in the Federal Register. We will determine the final priorities after considering responses to this notice and other information available to the Department. This notice does not preclude us from proposing additional priorities, requirements, definitions, or selection criteria, subject to meeting applicable rulemaking requirements.

Note: This notice does not solicit applications. In any year in which we choose to use these priorities, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priorities justify the costs.

Discussion of Costs and Benefits

The benefits of the Disability and Rehabilitation Research Projects and Centers Programs have been well established over the years in that similar projects have been completed successfully. These proposed priorities will generate new knowledge through research and development. Another benefit of these proposed priorities is that the establishment of new RERCs will improve the lives of individuals with disabilities. The new RERCs will generate, disseminate, and promote the use of new information that will improve the options for individuals with disabilities to fully participate in their communities.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 24, 2011.
Alexa Posny,
Assistant Secretary for Special Education and Rehabilitative Services.

[FR Doc. 2011-7355 Filed 3-28-11; 8:45 am]

BILLING CODE 4000-01-P